DEPARTMENT OF TRANSPORTATION

Federal Aviation Administration

[Docket No. 2025-0687]

Agency Information Collection Activities: Requests for Comments; Clearance of a New Approval of Information Collection: Reauthorization Section 769 Survey To Evaluate Airport Rescue and Firefighting (ARFF) Staffing Levels

AGENCY: Federal Aviation Administration (FAA), DOT.

ACTION: Notice and request for comments.

SUMMARY: In accordance with the Paperwork Reduction Act of 1995, FAA invites public comments about our intention to request the Office of Management and Budget (OMB) approval for a new information collection. The collection involves the use of a questionnaire to establish an initial baseline on Airport Rescue and Firefighting (ARFF) resources and staffing capabilities at each of the 518 certificated Part 139 airports. The information to be collected is necessary to fulfill requirements under section 769 of the FAA Reauthorization Act of 2024 (Pub. L. 118-63).

DATES: Written comments should be submitted by February 2, 2026.

ADDRESSES: Please send written comments:

By Electronic: www.regulations.gov.

Docket: Enter docket number: FAA-2025-0687 into search field.

By Email: Matthew.stearns@faa.gov.

FOR FURTHER INFORMATION CONTACT: Matthew Stearns by email at: Matthew.stearns@faa.gov; phone 907-271-5444.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-xxxx.

Title: Reauthorization Section 769 Survey to Evaluate Airport Rescue and Firefighting (ARFF) Staffing Levels.

Form Numbers: N/A.

Type of Review: This is a review of a new information collection.

Background: Currently, 14 CFR 139.319 does not require an individual to be trained as an emergency medical technician (EMT). Instead, section 139.319(i)(4) requires one individual, who has been trained and is current in basic emergency medical services, to be available during air carrier operations. Section 769(a) of the FAA Reauthorization Act of 2024 (the “Act”) instructs the FAA to update section 139.319 to ensure that at least one individual maintains certification at the EMT basic level, or higher, at a small, medium, or large hub airport. Section 769(b) of the Act also requires the FAA to conduct a review of airport environments and related regulations to evaluate sufficient staffing levels necessary for firefighting, rescue, and emergency medical services and responses at airports certified under part 139.

To carry out the requirements of section 769 of the Act, the FAA will develop a questionnaire to:

• Establish an initial baseline of airport rescue staffing levels/resources;

• Assist the FAA in conducting a staffing review of airports to evaluate sufficient staffing levels necessary for emergency medical services at Part 139 airports; and

• Support its upcoming Notice of Proposed Rulemaking addressing the EMT certification requirement.

Respondents: Approximately 518 airports.

Frequency: Once.

Estimated Average Burden per Response: 3 hours.

Estimated Total Annual Burden: 1,554 hours.

Issued in Washington, DC, on 28 November 2025.
Anthony M. Butters,
Acting Manager, Airport Safety and Operations (AAS-300).

[FR Doc. 2025-21755 Filed 12-1-25; 8:45 am]

BILLING CODE 4910-13-P